COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from the Procurement List.

SUMMARY: The Committee is proposing to add a product and a service to the Procurement List that will be furnished by nonprofit agencies employing persons who are blind or have other severe disabilities, and deletes products and services previously furnished by such agencies.

Comments Must be Received on Or Before: 9/1/2014.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the product and service listed below from nonprofit agencies employing persons who are blind or have other severe disabilities.

The following product and service are proposed for addition to the Procurement List for production by the nonprofit agencies listed:

Product

NSN: 3990-00-NSH-0081—Sideboard Pallet, 48″ × 48″.

NPA: Knox County Association for Retarded Citizens, Inc., Vincennes, IN.

Contracting Activity: Dept of the Army, W39Z STK REC ACCT-CRANE AAP, Crane, IN.

Coverage: C-List for 100% of the requirement of the Crane Army Ammunition Activity, as aggregated by the Army Contracting Command—W39Z STK REC ACCT-CRANE AAP, Crane, IN.

Service

Service Type/Location: Snow Removal Service, GSA, PBS, Region 5, Gerald R. Ford Federal Building, 110 Michigan Street NW., Grand Rapids, MI.

NPA: Hope Network Services Corporation, Grand Rapids, MI.

Contracting Activity: GSA, Public Buildings Service, Acquisition Management Division, Dearborn, MI.

Deletions

The following products and services are proposed for deletion from the Procurement List:

Products

NSN: 5340-00-881-5019—AQL Inspection, Clamp, Loop.

NPA: Provail, Seattle, WA.

Contracting Activity: Defense Logistics Agency Troop Support, Philadelphia, PA.

Gloves, Surgical, Powder-Free

NSN: 6515-00-NIB-0735—Biogel, Orthopro Indicator, Underglove, Green, Size 6″.

NSN: 6515-00-NIB-0736—Biogel, Orthopro Indicator, Underglove, Green, Size 6.5″.

NSN: 6515-00-NIB-0737—Biogel, Orthopro Indicator, Underglove, Green, Size 7″.

NSN: 6515-00-NIB-0738—Biogel, Orthopro Indicator, Underglove, Green, Size 7.5″.

NSN: 6515-00-NIB-0739—Biogel, Orthopro Indicator, Underglove, Green, Size 8″.

NSN: 6515-00-NIB-0740—Biogel, Orthopro Indicator, Underglove, Green, Size 8.5″.

NSN: 6515-00-NIB-0741—Biogel, Orthopro Indicator, Underglove, Green, Size 9″.

NSN: 6515-00-NIB-0742—Biogel, Orthopro, Overglove, Straw colored, Size 6″.

NSN: 6515-00-NIB-0743—Biogel, Orthopro, Overglove, Straw colored, Size 6.5″.

NSN: 6515-00-NIB-0744—Biogel, Orthopro, Overglove, Straw colored, Size 7″.

NSN: 6515-00-NIB-0745—Biogel, Orthopro, Overglove, Straw colored, Size 7.5″.

NSN: 6515-00-NIB-0746—Biogel, Orthopro, Overglove, Straw colored, Size 8″.

NSN: 6515-00-NIB-0747—Biogel, Orthopro, Overglove, Straw colored, Size 8.5″.

NSN: 6515-00-NIB-0748—Biogel, Orthopro, Overglove, Straw colored, Size 9″.

NPA: Bosma Industries for the Blind, Inc., Indianapolis, IN.

Contracting Activity: Department Of Veterans Affairs, NAC, Hines, IL.

Chipboard

NSN: 8135-00-782-3948.

NSN: 8135-00-782-3951.

NSN: 8135-00-290-0336.

NSN: 8135-00-579-8457.

NPA: Louisiana Association for the Blind, Shreveport, LA.

Contracting Activity: General Services Administration, New York, NY.

Services

Service Type/Location: Grounds Maintenance Service, US Army Corps of Engineers, Jadwin Building, Fort Point Reservation, 2000 Fort Point Road, Galveston, TX.

NPA: Training, Rehabilitation, & Development Institute, Inc., San Antonio, TX.

Contracting Activity: Dept of the Army, W076 ENDIST FT Worth, Fort Worth, TX.

Service Types/Locations:

Facilities/Grounds Maintenance, Addicks Field Office and Compound Storage Yard, Barker Visitors Areas, Dams, Reservoirs & Related, 2000 Fort Point Road, Houston, TX.

Facility and Grounds Maintenance Service, US Army Corps of Engineers, Wallisville Lake, 20020 IH-10 East Feeder Road, Wallisville, TX.

NPA: Training, Rehabilitation, & Development Institute, Inc., San Antonio, TX.

Contracting Activity: Dept of the Army, W076 ENDIST Galveston, Galveston, TX.

Barry S. Lineback,
Director, Business Operations.

[FR Doc. 2014-18138 Filed 7-31-14; 8:45 am]

BILLING CODE 6353-01-P